DEPARTMENT OF ENERGY

Federal Energy Regulatory Commission

Combined Notice of Filings #1

Take notice that the Commission received the following electric corporate filings:

Docket Numbers: EC14-39-000.

Applicants: ITC Midwest LLC.

Description: Application for Approval of Transaction Pursuant to FPA Section 203 of ITC Midwest LLC (CIPCO OPGW).

Filed Date: 12/26/13.

Accession Number: 20131226-5042.

Comments Due: 5 p.m. ET 1/16/14.

Docket Numbers: EC14-40-000.

Applicants: Castlebridge Energy Group LLC.

Description: Application of Castlebridge Energy Group LLC for Authorization to Dispose of Jurisdictional Facilities, Request for Expedited Consideration, Request for Waiver and Request for Confidential Treatment.

Filed Date: 12/24/13.

Accession Number: 20131224-5111.

Comments Due: 5 p.m. ET 1/14/14.

Take notice that the Commission received the following electric rate filings:

Docket Numbers: ER10-1789-003; ER10-1768-002; ER10-1793-002; ER10-1770-002; ER10-1771-002; ER12-1250-002.

Applicants: PSEG Energy Resources & Trade LLC, PSEG Fossil LLC, PSEG New Haven LLC, PSEG Nuclear LLC, PSEG Power Connecticut LLC, Public Service Electric and Gas Company.

Description: Updated Market Analysis Update for Northeast Region of the PSEG Companies.

Filed Date: 12/23/13.

Accession Number: 20131223-5279.

Comments Due: 5 p.m. ET 2/21/14.

Docket Numbers: ER10-2124-005.

Applicants: Spring Canyon Energy LLC.

Description: Triennial Report of Spring Canyon Energy LLC.

Filed Date: 12/24/13.

Accession Number: 20131224-5108.

Comments Due: 5 p.m. ET 2/24/14.

Docket Numbers: ER10-2125-005.

Applicants: Judith Gap Energy LLC.

Description: Triennial Report of Judith Gap Energy LLC.

Filed Date: 12/24/13.

Accession Number: 20131224-5103.

Comments Due: 5 p.m. ET 2/24/14.

Docket Numbers: ER10-2128-005.

Applicants: Wolverine Creek Energy LLC.

Description: Triennial Report of Wolverine Creek Energy LLC.

Filed Date: 12/24/13.

Accession Number: 20131224-5104.

Comments Due: 5 p.m. ET 2/24/14.

Docket Numbers: ER10-2129-004.

Applicants: Grays Harbor Energy LLC.

Description: Triennial Report of Grays Harbor Energy LLC.

Filed Date: 12/24/13.

Accession Number: 20131224-5107.

Comments Due: 5 p.m. ET 2/24/14.

Docket Numbers: ER10-2135-004.

Applicants: Spindle Hill Energy LLC.

Description: Triennial Report of Spindle Hill Energy LLC.

Filed Date: 12/24/13.

Accession Number: 20131224-5105.

Comments Due: 5 p.m. ET 2/24/14.

Docket Numbers: ER14-824-000; ER14-825-000.

Applicants: National Grid-Glenwood Energy Center, LLC, National Grid-Port Jefferson Energy Center, LLC.

Description: Niagara Mohawk Power Corporation et al submit their updated Triennial Market Power Analysis.

Filed Date: 12/24/13.

Accession Number: 20131226-0004.

Comments Due: 5 p.m. ET 2/24/14.

Docket Numbers: ER14-828-000.

Applicants: Kansas City Power & Light Company.

Description: KCP&L SPP Integrated Marketplace Filing to be effective 3/1/2014.

Filed Date: 12/24/13.

Accession Number: 20131224-5077.

Comments Due: 5 p.m. ET 1/14/14.

Docket Numbers: ER14-829-000.

Applicants: KCP&L Greater Missouri Operations Company.

Description: Triennial SPP Filing to be effective 3/1/2014.

Filed Date: 12/24/13.

Accession Number: 20131224-5078.

Comments Due: 5 p.m. ET 2/24/14.

Docket Numbers: ER14-830-000.

Applicants: Grays Harbor Energy LLC.

Description: Revised Market-Based Rate Tariff Pursuant to Order No. 784 to be effective 12/25/2013.

Filed Date: 12/24/13.

Accession Number: 20131224-5082.

Comments Due: 5 p.m. ET 1/14/14.

Docket Numbers: ER14-831-000.

Applicants: Judith Gap Energy LLC.

Description: Revised Market-Based Rate Tariff Pursuant to Order No. 784 to be effective 12/25/2013.

Filed Date: 12/24/13.

Accession Number: 20131224-5083.

Comments Due: 5 p.m. ET 1/14/14.

Docket Numbers: ER14-832-000.

Applicants: Spindle Hill Energy LLC.

Description: Revised Market-Based Rate Tariff Pursuant to Order No. 784 to be effective 12/25/2013.

Filed Date: 12/24/13.

Accession Number: 20131224-5084.

Comments Due: 5 p.m. ET 1/14/14.

Docket Numbers: ER14-833-000.

Applicants: Spring Canyon Energy LLC.

Description: Revised Market-Based Rate Tariff Pursuant to Order No. 784 to be effective 12/25/2013.

Filed Date: 12/24/13.

Accession Number: 20131224-5085.

Comments Due: 5 p.m. ET 1/14/14.

Docket Numbers: ER14-834-000.

Applicants: Wolverine Creek Energy LLC.

Description: Revised Market-Based Rate Tariff Pursuant to Order No. 784 to be effective 12/25/2013.

Filed Date: 12/24/13.

Accession Number: 20131224-5086.

Comments Due: 5 p.m. ET 1/14/14.

Docket Numbers: ER14-835-000.

Applicants: PacifiCorp.

Description: Cost Based Rate Schedule to be effective 12/25/2013.

Filed Date: 12/24/13.

Accession Number: 20131224-5088.

Comments Due: 5 p.m. ET 1/14/14.

Docket Numbers: ER14-836-000.

Applicants: Midcontinent Independent System Operator, Inc.

Description: Midcontinent Independent System Operator, Inc. submits tariff filing per 35.13(a)(2)(iii: 12-26-2013 SA 2622 Courtenay & OTP J262/3 E&P to be effective 12/27/2013.

Filed Date: 12/26/13.

Accession Number: 20131226-5033.

Comments Due: 5 p.m. ET 1/16/14.

Docket Numbers: ER14-837-000.

Applicants: Trademark Merchant Energy, LLC.

Description: Trademark Merchant Energy, LLC submits tariff filing per 35: Tariff Amendment—Order No. 784 to be effective 12/27/2013.

Filed Date: 12/26/13.

Accession Number: 20131226-5035.

Comments Due: 5 p.m. ET 1/16/14.

Docket Numbers: ER14-838-000.

Applicants: Pacific Gas and Electric Company.

Description: Notice of Termination of Pacific Gas and Electric Company for the El Peco Energy SGIA, Service Agreement No. 218 under PG&E FERC Electric Tariff Volume No. 5.

Filed Date: 12/24/13.

Accession Number: 20131224-5109.

Comments Due: 5 p.m. ET 1/14/14.

Docket Numbers: ER14-839-000.

Applicants: Frederickson Power L.P.

Description: Frederickson Power L.P. submits tariff filing per 35: Tariff Amendment—Order No. 784 to be effective 12/27/2013.

Filed Date: 12/26/13.

Accession Number: 20131226-5051.

Comments Due: 5 p.m. ET 1/16/14.

Take notice that the Commission received the following electric securities filings:

Docket Numbers: ES14-10-000.

Applicants: Portland General Electric Company.

Description: Supplement to November 11, 2013 Application of Portland General Electric Company for Authority to Issue Short-Term Debt Securities.

Filed Date: 12/23/13.

Accession Number: 20131223-5274.

Comments Due: 5 p.m. ET 1/2/14.

Docket Numbers: ES14-19-000.

Applicants: New York State Electric & Gas Corporation.

Description: Application for Authorization to Issue Short-Term Debt Securities under FPA Section 204 of New York State Electric & Gas Corporation.

Filed Date: 12/24/13.

Accession Number: 20131224-5094.

Comments Due: 5 p.m. ET 1/14/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 26, 2013.
Nathaniel J. Davis, Sr.,
Deputy Secretary.

[FR Doc. 2013-31579 Filed 1-3-14; 8:45 am]

BILLING CODE 6717-01-P